DEPARTMENT OF LABOR

Employment and Training Administration

[TA-W-51,355]

Culp, Inc., Rossville Division, Chattanooga, TN; Notice of Negative Determination Regarding Application for Reconsideration

By application postmarked May 20, 2003, three workers requested administrative reconsideration of the Department's negative determination regarding eligibility for workers and former workers of the subject firm to apply for Trade Adjustment Assistance (TAA). The denial notice was signed on April 28, 2003 and published in the Federal Register on May 9, 2003 (68 FR 25060).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Culp, Inc., Rossville Division, Chattanooga, Tennessee engaged in the production of upholstery fabrics, was denied because the “contributed importantly” group eligibility requirement of section 222(3) of the Trade Act of 1974, as amended, was not met. The “contributed importantly” test is generally demonstrated through a survey of the workers' firm's customers. The Department conducted a survey of the subject firm's major customers regarding their purchases of competitive products in 2000 through October 2002. The respondents reported no increased imports. The subject firm did not increase its reliance on imports of upholstery fabrics during the relevant period, nor did it shift production to a foreign source.

The workers allege that production has been shifted to China.

A company official was contacted in regard to this allegation. As a result, it was revealed that the company will be opening a foreign “finishing” plant for upholstery products in November of 2003. This information has no bearing on a revised consideration for subject firm workers because (a) the weaving that was done at the Chatanooga facility is not competitive with the finishing that will be done at the foreign facility, and (b), the November start date for production at the foreign facility is outside the relevant period for this investigation.

Conclusion

After review of the application and investigative findings, I conclude that there has been no error or misinterpretation of the law or of the facts which would justify reconsideration of the Department of Labor's prior decision. Accordingly, the application is denied.

Signed at Washington, DC, this 16th day of June, 2003.
Elliott S. Kushner,
Certifying Officer, Division of Trade Adjustment Assistance.

[FR Doc. 03-16896 Filed 7-2-03; 8:45 am]

BILLING CODE 4510-30-P